DEPARTMENT OF THE INTERIOR

Fish and Wildlife Service

[FWS-R8-ES-2022-N045; FXES11130800000-223-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before October 3, 2022.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
080779 | Melissa Busby, San Diego, California | • Quino checkerspot butterfly (Euphydryas editha quino) • Conservancy fairy shrimp (Branchinecta conservatio) • Longhorn fairy shrimp (Branchinecta longiantenna) | CA | Survey by pursuit; capture, handle, release, collect adult vouchers, and collect branchiopod cysts | Renew.
|  | • Vernal pool tadpole shrimp (Lepidurus packardi).
|  | • Riverside fairy shrimp (Streptocephalus woottoni).
|  | • San Diego fairy shrimp (Branchinecta sandiegonensis).
148555 | Phillip Brylski, Irvine, CA | • Fresno kangaroo-rat (Dipodomys nitratoides exilis) • Giant kangaroo-rat (Dipodomys ingens). | CA | Survey, capture, handle, and release | Renew.
|  | • Tipton kangaroo-rat (Dipodomys nitratoides nitratoides)
|  | • San Bernardino kangaroo-rat (Dipodomys merriami parvus)
|  | • Stephen's kangaroo-rat (Dipodomys stephensi)
|  | • Pacific pocket mouse (Perognathus longimembris pacificus)
|  | • Salt marsh harvest mouse (Reithrodontomys raviventris)
|  | • Amargosa vole (Microtus californicus scirpensis)
85618B | Biological Resources Services, LLC., Folsom, California | • California tiger salamander (Ambystoma californiense), Sonoma County and Santa Barbara County distinct population segments | CA | Survey, capture, handle, and release | Renew.
PER0036109 | Sarah Flaherty, Berkeley, California | • California tiger salamander (Ambystoma californiense), Sonoma County and Santa Barbara County distinct population segments | CA | Survey, capture, handle, and release | New.
17211C | Zoological Society of San Diego, San Diego, California | • San Diego ambrosia (Ambrosia pumila). • Salt marsh bird's beak (Cordylanthus maritimus ssp. maritimus) • Mexican flannelbush (Fremontodendron mexicanum) • California Orcutt grass (Orcuttia californica) • San Diego mesa-mint (Pogogyne abramsii) • San Diego button-celery (Eryngium aristulatum var. parishii) • Willowy monardella (Monardella viminea). | CA | Collect herbarium and genetic samples, conduct establishment and maintenance of a living collection or seed bank, conduct propagation, conduct pollination, and do genetic research | Renew and amend.
64546A | Power Engineers, Inc., Hailey, Idaho | • Southwestern willow flycatcher (Empidonax traillii extimus) | CA, NV, NM, AZ, TX, CO, UT | Play recorded vocalizations | Renew and amend.
PER0050068 | David Jacobs, Los Angeles, California | • Tidewater goby (Eucyclogobius newberryi) | CA | Survey, capture, handle, measure, relocate, release, collect voucher specimens | New.
PER0050163 | Anderson Tate-Montenegro, Sacramento, California | • Conservancy fairy shrimp (Branchinecta conservatio) • Longhorn fairy shrimp (Branchinecta longiantenna) • Vernal pool tadpole shrimp (Lepidurus packardi) | CA | Survey, capture, handle, release, collect adult vouchers, and collect branchiopod cysts | New.
PER0050168 | Nicolette Murphey, Tehachapi, California | • Conservancy fairy shrimp (Branchinecta conservatio) • Longhorn fairy shrimp (Branchinecta longiantenna) • Vernal pool tadpole shrimp (Lepidurus packardi) | CA | Survey, capture, handle, release, collect adult vouchers, and collect branchiopod cysts | New.
PER0050169 | Tanner Lichty, Orangevale, California | • Conservancy fairy shrimp (Branchinecta conservatio) • Longhorn fairy shrimp (Branchinecta longiantenna) • Vernal pool tadpole shrimp (Lepidurus packardi) | CA | Survey, capture, handle, release, collect adult vouchers, and collect branchiopod cysts | New.
068745 | Jeffery Wilcox, Vallejo, California | • California tiger salamander (Ambystoma californiense), Sonoma County and Santa Barbara County distinct population segments | CA | Survey, capture, handle, collect tail tissue, and release | Renew.
799570 | Carol Witham, Sacramento, California | • Conservancy fairy shrimp (Branchinecta conservatio) • Longhorn fairy shrimp (Branchinecta longiantenna) • Vernal pool tadpole shrimp (Lepidurus packardi) • Solano grass (Tuctoria mucronata). | CA | Survey, capture, handle, release, collect adult vouchers, collect branchiopod cysts, conduct training workshops to non-permitted individuals, remove and reduce to possession from lands under Federal jurisdiction | New.
012973 | ECORP Consulting, Inc., Rocklin, California | • Giant kangaroo-rat (Dipodomys ingens). • San Bernardino Merriam's kangaroo-rat (Dipodomys merriami parvus) • Conservancy fairy shrimp (Branchinecta conservatio) • Longhorn fairy shrimp (Branchinecta longiantenna) • Vernal pool tadpole shrimp (Lepidurus packardi) | CA | Survey, capture, handle, release, collect adult vouchers, collect branchiopod cysts, process vernal pool soil samples, and culture and hatch out branchiopod resting eggs for species identification | Renew.
|  | • California tiger salamander (Ambystoma californiense), Sonoma County and Santa Barbara County distinct population segments
|  | • Salt marsh harvest mouse (Reithrodontomys raviventris)
62868B | The Klamath Tribes, Chloquin, Oregon | • Shortnose sucker (Chasmistes brevirostris) • Lost River sucker (Deltistes luxatus). | OR | Survey, trap, capture, handle, mark, collect tissue samples, collect gametes, collect and rear in captivity, relocate/reintroduce, sacrifice, and release | Amend.
98536C | Stillwater Sciences, Berkeley, California | • California tiger salamander (Ambystoma californiense), Sonoma County and Santa Barbara County distinct population segments | CA | Survey, capture, handle, and release | Amend.
837448 | Douglas Allen, San Diego, California | • Conservancy fairy shrimp (Branchinecta conservatio) • Longhorn fairy shrimp (Branchinecta longiantenna) • Vernal pool tadpole shrimp (Lepidurus packardi) | CA | Survey by pursuit, survey capture, handle, release, collect adult vouchers, and collect branchiopod cysts | Renew.
|  | • Riverside fairy shrimp (Streptocephalus woottoni)
|  | • San Diego fairy shrimp (Branchinecta sandiegonensis)
|  | • Quino checkerspot butterfly (Euphydryas editha quino)
19906C | Ross Taylor, McKinleyville, California | • Tidewater goby (Eucyclogobius newberryi) | CA | Survey, capture, handle, measure, relocate, release, collect voucher specimens | Renew.
009018 | Rancho Santa Ana Botanical Garden, Claremont, California | • San Mateo thornmint (Acanthomintha obovata ssp. duttonii) • Munz's onion (Allium munzii). • Sonoma alopecurus (Alopecurus aequalis var. sonomensis) • San Diego ambrosia (Ambrosia pumila). • Large-flowered fiddleneck (Amsinckia grandiflora) • McDonald's rock-cress (Arabis mcdonaldiana) • Santa Rosa Island manzanita (Arctostaphylos confertiflora) | CA, NV | Remove/reduce to possession from lands under Federal jurisdiction, collect herbarium and genetic samples, carry out establishment and maintenance of a living collection or seed bank, conduct propagation, conduct pollination, and do genetic research | Renew and amend.
|  | • Del Mar manzanita (Arctostaphylos glandulosa ssp. crassifolia)
|  | • Presidio manzanita (Arctostaphylos hookeri var. ravenii)
|  | • Marsh sandwort (Arenaria paludicola)
|  | • Cushenbury milk-vetch (Astragalus albens)
|  | • Braunton's milk-vetch (Astragalus brauntonii)
|  | • Clara Hunt's milk-vetch (Astragalus clarianus)
|  | • Lane Mountain milk-vetch (Astragalus jaegerianus)
|  | • Coachella Valley milk-vetch (Astragalus lentiginosus var. coachellae)
|  | • Ventura Marsh milk-vetch (Astragalus pycnostachyus var. lanosissimus)
|  | • Coastal dunes milk-vetch (Astragalus tener var. titi)
|  | • Triple-ribbed milk-vetch (Astragalus tricarinatus)
|  | • San Jacinto Valley crownscale (Atriplex coronata var. notatior)
|  | • Nevin's barberry (Berberis nevinii)
|  | • Island barberry (Berberis pinnata ssp. insularis). • Sonoma sunshine (Blennosperma bakeri)
|  | • Hoffmann's rock-cress (Arabis hoffmannii)
|  | • Stebbins' morning-glory (Calystegia stebbinsii)
|  | • White sedge (Carex albida)
|  | • Tiburon paintbrush (Castilleja affinis ssp. neglecta)
|  | • Soft-leaved paintbrush (Castilleja mollis)
|  | • California jewelflower (Caulanthus californicus)
|  | • Coyote ceanothus (Ceanothus ferrisae)
|  | • Pine Hill ceanothus (Ceanothus roderickii)
|  | • Catalina Island mountain-mahogany (Cercocarpus traskiae)
|  | • Howell's spineflower (Chorizanthe howellii)
|  | • Orcutt's spineflower (Chorizanthe orcuttiana)
|  | • Ben Lomond spineflower (Chorizanthe pungens var. hartwegiana)
|  | • Scotts Valley spineflower (Chorizanthe robusta var. hartwegii)
|  | • Robust spineflower (Chorizanthe robusta var. robusta)
|  | • Sonoma spineflower (Chorizanthe valida)
|  | • Fountain thistle (Cirsium fontinale var. fontinale)
|  | • Chorro Creek bog thistle thistle (Cirsium fontinale var. obispoense)
|  | • Suisun thistle (Cirsium hydrophilum var. hydrophilum)
|  | • La Graciosa thistle (Cirsium loncholepis)
|  | • Presidio clarkia (Clarkia franciscana)
|  | • Vine Hill clarkia (Clarkia imbricata)
|  | • Pismo clarkia (Clarkia speciosa ssp. immaculata)
|  | • Salt marsh bird's-beak (Cordylanthus maritimus ssp. maritimus)
|  | • Soft bird's beak (Cordylanthus mollis ssp. mollis)
|  | • Palmate-bracted bird's-beak (Cordylanthus palmatus)
|  | • Pennell's bird's-beak (Cordylanthus tenuis ssp. capillaris)
|  | • Gaviota tarplant (Deinandra increscens ssp. villosa)
|  | • Baker's larkspur (Delphinium bakeri)
|  | • Yellow larkspur (Delphinium luteum)
|  | • San Clemente Island larkspur larkspur (Delphinium variegatum ssp. kinkiense)
|  | • Slender-horned spineflower (Dodecahema leptoceras)
|  | • Santa Clara Valley dudleya (Dudleya setchellii)
|  | • Kern mallow (Eremalche kernensis)
|  | • Santa Ana River woolly-star (Eriastrum densifolium ssp. sanctorum)
|  | • Indian Knob mountainbalm (Eriodictyon altissimum)
|  | • Lompoc yerba santa (Eriodictyon capitatum)
|  | • Ione (incl. Irish Hill) buckwheat (Eriogonum apricum [incl. var. prostratum])
|  | • Cushenbury buckwheat (Eriogonum ovalifolium var. vineum)
|  | • San Mateo woolly sunflower (Eriophyllum latilobum)
|  | • San Diego button-celery (Eryngium aristulatum var. parishii)
|  | • Loch Lomond coyote thistle (Eryngium constancei)
|  | • Contra Costa wallflower (Erysimum capitatum var. angustatum)
|  | • Menzies' wallflower (Erysimum menziesii)
|  | • Ben Lomond wallflower (Erysimum teretifolium)
|  | • Pine Hill flannelbush (Fremontodendron californicum ssp. decumbens)
|  | • Mexican flannelbush (Fremontodendron mexicanum)
|  | • Island bedstraw (Galium buxifolium)
|  | • El Dorado bedstraw (Galium californicum ssp. sierrae)
|  | • Monterey gilia (Gilia tenuiflora ssp. arenaria)
|  | • Hoffmann's slender-flowered gilia (Gilia tenuiflora ssp. hoffmannii)
|  | • Burke's goldfields (Lasthenia burkei)
|  | • Contra Costa goldfields (Lasthenia conjugens)
|  | • San Francisco lessingia (Lessingia germanorum [=L.g. var. germanorum])
|  | • Western lily (Lilium occidentale)
|  | • Pitkin marsh lily (Lilium pardalinum ssp. pitkinense)
|  | • Butte County meadowfoam (Limnanthes floccosa ssp. californica)
|  | • Sebastopol meadowfoam (Limnanthes vinculans)
|  | • San Clemente Island woodland-star (Lithophragma maximum)
|  | • Clover (Tidestrom's) lupine (Lupinus tidestromii)
|  | • Nipomo Mesa lupine (Lupinus nipomensis)
|  | • San Clemente Island bush-mallow (Malacothamnus clementinus)
|  | • Santa Cruz Island bush-mallow (Malacothamnus fasciculatus var. nesioticus) • Santa Cruz Island malacothrix (Malacothrix indecora)
|  | • Island malacothrix (Malacothrix squalida)
|  | • Willowy monardella (Monardella viminea)
|  | • San Joaquin wooly-threads (Monolopia [=Lembertia] congdonii)
|  | • Few-flowered navarretia (Navarretia leucocephala ssp. pauciflora [=N. pauciflora]) • Many-flowered navarretia (Navarretia leucocephala ssp. plieantha) • Amargosa niterwort (Nitrophila mohavensis)
|  | • California Orcutt grass (Orcuttia californica)
|  | • Antioch Dunes evening-primrose (Oenothera deltoides ssp. howellii)
|  | • Hairy Orcutt grass (Orcuttia pilosa)
|  | • Cushenbury oxytheca (Oxytheca parishii var. goodmaniana)
|  | • White-rayed pentachaeta (Pentachaeta bellidiflora)
|  | • Lyon's pentachaeta (Pentachaeta lyonii)
|  | • Island phacelia (Phacelia insularis ssp. insularis)
|  | • Yreka phlox (Phlox hirsuta)
|  | • Yadon's piperia (Piperia yadonii)
|  | • Calistoga allocarya (Plagiobothrys strictus)
|  | • San Bernardino bluegrass (Poa atropurpurea)
|  | • Napa bluegrass (Poa napensis)
|  | • San Diego mesa-mint (Pogogyne abramsii)
|  | • Otay mesa-mint (Pogogyne nudiuscula)
|  | • Scotts Valley polygonum (Polygonum hickmanii)
|  | • Hickman's potentilla (Potentilla hickmanii)
|  | • Gambel's watercress (Rorippa gambellii)
|  | • Lake County stonecrop (Parvisedum leiocarpum)
|  | • Santa Cruz Island rockcress (Sibara filifolia)
|  | • Keck's checker-mallow (Sidalcea keckii)
|  | • Kenwood marsh checker-mallow (Sidalcea oregana ssp. valida) • Pedate checker-mallow (Sidalcea pedata)
|  | • Metcalf Canyon jewelflower (Streptanthus albidus ssp. albidus) • Tiburon jewelflower (Streptanthus niger). • California seablite (Suaeda californica). • California taraxacum (Taraxacum californicum) • Slender-petaled mustard (Thelypodium stenopetalum) • Santa Cruz Island fringepod (Thysanocarpus conchuliferus) • Kneeland Prairie penny-cress (Thlaspi californicum) • Showy Indian clover (Trifolium amoenum)
|  | • Monterey clover (Trifolium trichocalyx). • Greene's tuctoria (Tuctoria greenei)
|  | • Solano grass (Tuctoria mucronata)
|  | • Santa Barbara Island liveforever (Dudleya traskiae)
|  | • Hartweg's golden sunburst (Pseudobahia bahiifolia)
068072 | Philippe Vergne, Boulder, Colorado | • Stephen's kangaroo-rat (Dipodomys stephensi) • Pacific pocket mouse (Perognathus longimembris pacificus) • Salt marsh harvest mouse (Reithrodontomys raviventris) | CA | Survey, capture, handle, and release | Renew.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Ecological Services Program Manager, Pacific Southwest Region, Sacramento, California.

[FR Doc. 2022-18974 Filed 9-1-22; 8:45 am]

BILLING CODE 4333-15-P